DEPARTMENT OF THE INTERIOR

National Park Service

[NPS-CONC-ABSV-14051: PPWOBSADC0, PPMVSCS1Y.Y00000]

Notice of Extension of Concession Contracts

AGENCY: National Park Service, Interior.

ACTION: Public Notice.

SUMMARY: The National Park Service hereby gives public notice that it proposes to extend the following expiring concession contracts until the dates shown:

CONCID | Concessioner | Extend until:
CC-GRTE024-03 | Jackson Hole Mountain Resort Corporation | October 31, 2014.
CC-GRTE032-03 | The Hole Hiking Experience, Inc. | October 31, 2014.

DATES: Effective Date: November 1, 2013.

FOR FURTHER INFORMATION CONTACT: Ben Erichsen, Chief, Commercial Services Program, National Park Service, 1201 Eye Street NW., 11th Floor, Washington, DC 20005, Telephone (202) 513-7156.

SUPPLEMENTARY INFORMATION: Pursuant to 36 CFR 51.23, the National Park Service has determined the proposed extension is necessary to avoid interruption of visitor services and has taken all reasonable and appropriate steps to consider alternatives to avoid such interruption.

Dated: September 12, 2013.
Lena McDowall,
Associate Director, Business Services.

[FR Doc. 2013-31221 Filed 12-27-13; 8:45 am]

BILLING CODE 4312-53-P